DEPARTMENT OF HEALTH AND HUMAN SERVICES

Indian Health Service

Request for Public Comment: 30-Day Information Collection: Urban Indian Organization On-Site Review

AGENCY: Indian Health Service, HHS.

ACTION: Notice and request for comments; request for approval.

SUMMARY: In compliance with the Paperwork Reduction Act of 1995, the Indian Health Service (IHS) invites the general public to comment on a new information collection titled, “Urban Indian Organization On-Site Review.” IHS is requesting the Office of Management and Budget (OMB) to approve this new collection. The purpose of this notice is to announce the IHS' intent to submit this collection to OMB and to allow 30 days for public comment to be submitted directly to OMB.

DATES: Consideration will be given to all comments received by October 11, 2022.

ADDRESSES: A copy of the supporting statement is available at www.regulations.gov (see Docket ID: IHS_FRDOC_0001).

Direct Your Comments to OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Evonne Bennett, Information Collection Clearance Officer at: Evonne.Bennett@ihs.gov or 301-443-4750.

SUPPLEMENTARY INFORMATION:

Summary of Comments: There was one comment that was submitted to the Agency regarding the 60-Day Federal Register Notice published on February 11, 2022 (87 FR 8020).

Comment Summary: The National Council of Urban Indian Health (NCUIH) was the only comment to the FRN, and a summary of the comments, requests, and recommendations in response to the February 11, 2022, notice, is summarized below. These comments can be found in full on www.regulations.gov (see Docket ID: IHS_FRDOC_0001) and based on NCUIH's consultations with Urban Indian Organizations (UIOs) and NCUIH's subject matter expertise. In summary, the NCUIH recommends the following:

• Update the Manual regularly and as needed to remain consistent with other relevant accreditation processes.

• Provide greater flexibility in the Manual to accommodate diverse UIO program/facility goals and services.

• The IHS to provide a consolidated list of requirement documents to UIOs prior to the on-site review.

• Ensure that UIOs can use existing administrative or site visit data in meeting the requirements of the Manual.

Additional Recommendations for UIOs includes that the Office of Urban Indian Health Programs (OUIHP) host an Urban Confer with UIOs to learn directly from UIO leaders about their experiences with the Manual and overall review process. The NCUIH also wanted consideration on (1) Provide a timeline for processing information collected in the annual review process; and (2) Improve overall review by ensuring reviewers are licensed medical providers.

IHS Response: The IHS Urban Indian Organization On-Site Review is conducted annually by the IHS Area Offices to evaluate IHS-funded UIOs' compliance with the Federal Acquisition Regulations (FAR), the Indian Health Care Improvement Act (IHCIA), and other contract and grant requirements. The on-site review requirements are based on best-practice standards for delivering safe and high quality health care. The OUIHP at IHS Headquarters provides national oversight of the annual on-site reviews.

In Fiscal Year (FY) 2018, the OUIHP executed an Indefinite-Delivery, Indefinite Quantity contract to revise the outdated 2013 Annual On-site Review Manual using current Accreditation Association for Ambulatory Health Care (AAAHC), The Joint Commission, and Commission on Accreditation of Rehabilitation Facilities accreditation standards, and the IHS Manual to improve consistency and usefulness of on-site reviews. IHS solicited feedback and recommendations from UIOs by conducting seven site visits: 1 outreach and referral program, 2 limited ambulatory programs, 2 comprehensive ambulatory programs, and 2 residential and outpatient treatment centers. In FY 2020, the OUIHP finalized the Annual On-site Review Manual incorporating UIOs' feedback and recommendations.

In FY 2021, the OUIHP began development of an electronic Annual On-site Review application to replace the hardcopy and a national dashboard to enhance the efficiency of on-site reviews. The application enables IHS Area Office staff and UIOs to document on-site reviews electronically by (1) completing corrective action plans; (2) documenting on-site reviews simultaneously at UIOs by IHS and UIO staff; (3) uploading on-site review documents; (4) calculating compliance scores to provide real-time feedback; (5) generating compliance trend data as a baseline measure; (6) uploading on-site review data if no internet connection is available; and (7) printing options for the on-site review manual and completed reviews. The advantages of automating the Annual On-site Review Manual and process will increase productivity, increase communication on status of on-site reviews, increase efficient use of the Annual On-site Review Manual, and improve implementation of corrective action plans. In FY 2022, the OUIHP continues to develop the electronic Annual On-site Review Manual and process including seeking OMB approval.

The standardization of the Annual On-site Review Manual and process was in line with the 2017-2021 OUIHP strategic plan to improve the consistency, usefulness, and efficiency of annual on-site reviews for IHS Area Offices and UIOs.

The IHCIA at 25 U.S.C. 1655, states that the IHS will annually review and evaluate each UIO funded under the law. The IHCIA also requires IHS to develop procedures for evaluating compliance with awards made under the statute. Section 1655 states, in part:

(a) Contract Compliance and Performance

The Secretary, through the Service, shall develop procedures to evaluate compliance with grant requirements under this subchapter and compliance with, and performance of contracts entered into by [UIOs] under this subchapter. Such procedures shall include provisions for carrying out the requirements of this section.

(b) Annual On-Site Evaluation

The Secretary, through the Service, shall conduct an annual on-site evaluation of each [UIO] which has entered into a contract or received a grant under Section 1653 of this title for purposes of determining the compliance of such organization with, and evaluating the performance of such organization under, such contract or the terms of such grant.

To meet statutory compliance, the IHS will conduct annual on-site reviews of UIOs funded under the IHCIA to ensure grant and contract compliance and the delivery of safe and high-quality health care.

This notice announces our intent to establish a new information collection.

Title: Urban Indian Organization On-Site Review. Need and Use of Information Collection: The Office of Urban Indian Health Programs (OUIHP) at IHS Headquarters provides national oversight of the annual on-site reviews. The IHS Urban Indian Organization On-Site Review is conducted annually by the IHS Area Offices to evaluate IHS-funded Urban Indian Organizations' compliance with Federal Acquisition Regulation (FAR) contractual requirements and grant requirements established through the IHCIA. The on-site review requirements are based on best-practice standards for delivering safe and high quality health care. Agency Form Number: none. Members of Affected Public: IHS-funded Urban Indian Organizations. Status of the Proposed Information Collection: new.

The table below provides: Types of data collection instruments, Estimated number of respondents, Number of responses per respondent, Average burden hour per response, and Total annual burden hours.

Data collection instrument(s) | Estimated number of respondents | Responses per respondent | Average burden hour per response | Total annual burden hours
UIOs | 41 | 1 | 16 | 656
Total | 41 | 1 | 16 | 656

There are no direct costs to respondents to report.

Requests for Comments: Your written comments and/or suggestions are invited on one or more of the following points:

(a) whether the information collection activity is necessary to carry out an agency function;

(b) whether the agency processes the information collected in a useful and timely fashion;

(c) the accuracy of the public burden estimate (the estimated amount of time needed for individual respondents to provide the requested information);

(d) whether the methodology and assumptions used to determine the estimates are logical;

(e) ways to enhance the quality, utility, and clarity of the information being collected; and

(f) ways to minimize the public burden through the use of automated, electronic, mechanical, or other technological collection techniques or other forms of information technology

Elizabeth A. Fowler,
Acting Director, Indian Health Service.

[FR Doc. 2022-19493 Filed 9-8-22; 8:45 am]

BILLING CODE 4165-16-P